DEPARTMENT OF THE INTERIOR

National Park Service

National Register of Historic Places; Notification of Pending Nominations

Nominations for the following properties being considered for listing in the National Register were received by the National Park Service before January 3, 2004. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by February 11, 2004.

Carol D. Shull,
Keeper of the National Register of Historic Places.

ARKANSAS

Garland County

Bellaire Court Historic District, (Arkansas Highway History and Architecture MPS), 637 Park Ave., Hot Springs, 04000007.

Butchie's Drive-In, (Arkansas Highway History and Architecture MPS), 534 Park Ave., Hot Springs, 04000004.

Cottage Courts Historic District, (Arkansas Highway History and Architecture MPS), 603 Park Ave., Hot Springs, 04000005.

Cove Tourist Court, (Arkansas Highway History and Architecture MPS), 771 Park Ave., Hot Springs, 04000008.

Langdon Filling Station, (Arkansas Highway History and Architecture MPS), 311 Park Ave., Hot Springs, 04000003.

Lynwood Tourist Court Historic District, (Arkansas Highway History and Architecture MPS), 857 Park Ave., Hot Springs, 04000010.

Mountainaire Hotel Historic District, (Arkansas Highway History and Architecture MPS), 1100 Park Ave., Hot Springs, 04000013.

Opal's Steak House, (Arkansas Highway History and Architecture MPS), 871 Park Ave., Hot Springs, 04000011.

Parkway Courts Historic District, (Arkansas Highway History and Architecture MPS), 815 Park Ave., Hot Springs, 04000009.

Perry Plaza Court Historic District, (Arkansas Highway History and Architecture MPS), 1007 Park Ave., Hot Springs, 04000012.

Wheatley Courts, (Arkansas Highway History and Architecture MPS), 811 Park Ave., Hot Springs, 04000006.

Saline County

Hester-Lenz House, 905 AR 5 N, Benton, 04000002.

CALIFORNIA

Los Angeles County

Ware, Henry A., House, (Residential Architecture of Pasadena: Influence of the Arts and Crafts Movement MPS), 460 Bellefontaine St., Pasadena, 04000015.

Madera County

North University Park Historic District, Roughly bounded by Hoover St., Adams Blvd, 28th St. and Magnolia Ave., Los Angeles, 04000016.

Orange County

St. Michael's Episcopal Church, 311 West South St., Anaheim, 04000017.

Placer County

Mountain Quarries Bridge, North Fork of the American River, Auburn, 04000014.

San Bernardino County

Beverly Rangh, 923 W. Fern Ave., Redlands, 04000018.

COLORADO

Sedgwick County

Union Pacific Railroad Julesburg Depot, 210 W. First St., Julesburg, 04000019.

FLORIDA

Seminole County

Lake Mary Chamber of Commerce Building, 158 N. Country Club Rd., Lake Mary, 04000022.

GEORGIA

Morgan County

Wilson—Finney—Land House, 1750 Bethany Rd., Madison, 04000021.

HAWAII

Honolulu County

Kyoto Gardens of Honolulu Memorial Park, 22 Craigside Place, Honolulu, 04000020.

MASSACHUSETTS

Hampshire County

Ringville Cemetery, Witt Hill Rd., Worthington, 04000024.

Suffolk County

Benedict Fenwick School, 150 Magnolia St., Boston, 04000023.

Rumney Marsh Burying Ground, Butler St. at Elm and Bixby Sts., Revere, 04000025.

NEVADA

Douglas County

TAHOE (Shipwreck), Lake Tahoe, Glenbrook, 04000026.

TENNESSEE

Williamson County

Natchez Street Historic District, Roughly bounded by Columbia Ave., Granbury St., and W. Main St., Franklin, 04000030.

VIRGINIA

Albemarle County

Scottsville Historic District (Boundary Increase), Roughly bounded by the James River, Town Limit, the Riverview and Mount Walla, Oakwood and Cliffside, and Chester, Scottsville, 04000034.

Arlington County

Buckingham Historic District (Boundary Increase), (Garden Apartments, Apartment Houses and Apartment Complexes in Arlington County, Virginia MPS), bounded by N. Oxford St., Fifth St. N, N. Henderson Rd., First St. N., N. Pershing, N. Thomas St., and Second St. N., Arlington, 04000048.

Columbia Forest Historic District, Bounded by 11th, S. Edison, S. Dinwiddie, S. Columbus, S. George Mason, and S. Frederick St., Arlington, 04000047.

Fort Ethan Allen, Address Restricted, Arlington, 04000052.

Glebe Center, 71-89 N. Glebe Rd., Arlington, 04000055.

Glebewood Village Historic District, N. Brandywine St. bet. Lee Hwy and 10th Place N, 21St Rd. bet. N. Brandywine St. and N. Glebe Rd., Arlington, 04000049.

Gray, Harry W., House, 1005 S. Quinn St., Arlington, 04000051.

Lomax African Methodist Episcopal Zion Church, 2704 24th Rd. S, Arlington, 04000038.

Brunswick County

St. Paul's School, (Rosenwald Schools in Virginia MPS), Brunswick Dr. at I-85, Meredithville, 04000037.

Caroline County

Jericho School, Jericho Rd., Ruther Glen, 04000041.

Chesapeake Independent City, Albermarle and Chesapeake Canal Historic District, Albemarle and Chesapeake Canal, Chesapeake (Independent City), 04000035.

Fauquier County

Ashville Historic District, Area including 4236-4130 Ashville Rd. and part of Old Ashville Rd., Marshall, 04000043.

Delaplane Historic District, Area including parts of Delaplane Grade Rd. and Rokeby Rd., Delaplane, 04000050.

Heflin's Store, 5310 Blantyre Rd., Little Georgetown, 04000046.

Morgantown Historic District, Roughly jct. of Freestate Rd. and Mount Nebo Church Rd., discont. cemetery approx. 0.2 Mme SE of Mount Nebo Church Rd., Marshall, 04000045.

New Baltimore Historic District, Area including parts of Old Alexandria Turnpike, Mason Ln., Georgetown Rd., and Beverley's Mill Rd., New Baltimore, 04000044.

Frederick County

Forge Farm, Old, 7326 Middle Rd., Middletown, 04000036.

Gloucester County

Woodville School, 4310 George Washington Mermorial Highway, Ordinary, 04000042.

Harrisonburg Independent City, Simms, Lucy F., School, 620 Simms Ave., Harrisonburg (Independent City), 04000040.

Loudoun County

Ellwood, 17360 Count Turf Place, Leesburg, 04000054.

Prince William County

Prince William County Courthouse, 9248 Lee Ave., Manassas, 04000039.

Westmoreland County

Bushfield, 367 Club House Loop, Mount Holly, 04000053.

WEST VIRGINIA

Berkeley County

Hollida, George Washington, House, 4781 Scabble Rd., Shepherdstown, 04000031.

Nadenbousch, Moses, House, 2540 Butler's Chapel Rd., Martinsburg, 04000032.

Robinson—Tabb House, 377 Holden Dr., Martinsburg, 04000028.

Snyder, Benjamin H., House, 1925 Douglas Grove Rd., Martinsburg, 04000029.

VanMetre, John, House, 177 Elsie Dr., Kearneysville, 04000033.

Wood County

Bickel, W.H., Estate, Number One Bickel Mansion Dr., Parkersburg, 04000027.

[FR Doc. 04-1596 Filed 1-26-04; 8:45 am]

BILLING CODE 4312-51-P